FEDERAL HOUSING FINANCE BOARD

12 CFR Parts 905, 906, 925, 926, 931, 933, 944, 950, and 951

[No. 2005-03]

RIN 3069-AB29

Amendments to the Contractor Outreach Program for Businesses Owned by Minorities, Women, or Individuals With Disabilities

AGENCY: Federal Housing Finance Board.

ACTION: Final rule.

SUMMARY: The Federal Housing Finance Board (Finance Board) is updating its regulation establishing a minority contractors outreach program to reflect changes in the agency's procurement process and organization, to include individuals with disabilities, and to make general editorial changes intended to simplify the rule. The Finance Board also is adding a new section to its Description of Organization and Functions regulation listing the control numbers and expiration dates for all agency information collections approved by the Office of Management and Budget (OMB) under the Paperwork Reduction Act of 1995 (PRA).

DATES: The final rule will become effective on March 30, 2005.

FOR FURTHER INFORMATION CONTACT: Charles E. McLean, Outreach Advocate, by electronic mail at mcleanc@fhfb.gov, by telephone at (202) 408-2537, by facsimile at (202) 408-2850; David A. Lee, Associate Director, Human Resources and Administration Division, Office of Management, by electronic mail at leed@fhfb.gov, by telephone at (202) 408-2514, by facsimile at (202) 408-2530; or Janice A. Kaye, Senior Attorney-Advisor, Office of General Counsel, by electronic mail at kayej@fhfb.gov, by telephone at (202) 408-2505, by facsimile at (202) 408-2580. You can send regular mail to the Federal Housing Finance Board, 1777 F Street, NW., Washington, DC 20006.

SUPPLEMENTARY INFORMATION:

I. Minorities, Women and Individuals With Disabilities Contractor Outreach Program

A. Statutory and Regulatory Background

In 1989, Congress enacted a law requiring the Finance Board and other federal banking agencies to adopt regulations intended “to ensure inclusion, to the maximum extent possible, of minorities and women, and entities owned by minorities and women * * * in all contracts entered into by the agency. * * * ” See 12 U.S.C. 1833e(c). In response, the Finance Board adopted a rule establishing a minority contractors outreach program.¹ The purpose of the outreach program is to identify and solicit the participation of businesses owned by minorities or women in the Finance Board's procurement process.

¹ See 12 CFR 906.5.

The Finance Board has not revised its contractor outreach program since 1993.² Under the current rule, the outreach program procedurally is more complex than necessary for an agency the size of the Finance Board. It also has been less effective in practice than anticipated in achieving the goal of increased participation by minority- and women-owned businesses in agency contracts. Additionally, since adoption of the rule in 1993, the Finance Board's contracting process and general organization have changed. This final rule will streamline the outreach program in an effort to improve its effectiveness and also update it to reflect the changes in agency organization and practice.

² 58 FR 19195 (April 13, 1993).

While not required by statute, the Finance Board is extending coverage of the outreach program to businesses owned by individuals with disabilities. This is consistent with the intent of the Rehabilitation Act of 1973, which, among other things, requires agencies to enhance the prospects for federal employment of qualified individuals with disabilities.³ It also advances the goals of an Executive Order issued by the President on October 20, 2004, which is intended to strengthen opportunities in federal contracting for service disabled veterans.⁴ Other agencies subject to the contractor outreach requirement have included businesses owned by individuals with disabilities in their program.⁵

³ See 29 U.S.C. 701 et seq.

⁴ E.O. 13360, 69 FR 62549 (Oct. 26, 2004).

⁵ See, e.g., 12 CFR 4.61-4.66 (Office of the Comptroller of the Currency).

The Finance Board also is making general editorial changes intended to simplify the rule and is using a more user-friendly question-and-answer format. While the Finance Board is adopting these changes in the form of a final rule, comments on ways to improve the outreach program are encouraged.

B. Analysis of the Final Rule

1. Purpose

Section 906.10 explains why the Finance Board has a contractor outreach program. Consistent with the principles of full and open competition and best value acquisition, the purpose of the outreach program is to ensure that businesses owned by minorities, women, and individuals with disabilities have the opportunity to participate to the full extent possible in all Finance Board contracts.

2. Participants

Section 906.11 explains who can participate in the contractor outreach program. The definition of the term “minority” is based on guidance provided by the Equal Employment Opportunity Commission (EEOC) concerning the collection and presentation of data on race and ethnicity.⁶ The rule adopts by reference the definition of the term “disability” used by the EEOC for purposes of the Rehabilitation Act of 1973.⁷ Under this EEOC definition, an individual with a disability generally means any person who has a physical or mental impairment that substantially limits one or more of such person's major life activities, has a record of such an impairment, or is regarded as having such an impairment.

⁶ EEOC guidance is available at: http://www.eeoc.gov/stats/census/race_ethnic_data.html.

⁷ See 29 CFR 1630.2(g) and 1630.3.

To ensure that the benefits of the program inure to minorities, women, and individuals with disabilities, the rule requires that participating businesses be unconditionally owned by one or more minorities, women, or individuals with disabilities. For purposes of the outreach program, “unconditionally owned” means ownership of at least 51 percent of a business by one or more members of a minority group, women, or individuals with disabilities. In the case of a corporation, it means ownership of at least 51 percent of each class of voting stock. In the case of a partnership, it means ownership of at least 51 percent of the partnership interest. This definition of unconditional ownership is consistent with the definition used by other agencies subject to the contractor outreach requirement.⁸

⁸ See, e.g., 12 CFR 4.62(c) and (e) (Office of the Comptroller of the Currency).

3. How the Outreach Program Works

Section 906.12 includes the elements of the outreach program. Under the program, the Finance Board will identify and solicit the participation in agency contracts of businesses owned by minorities, women, and individuals with disabilities. To identify businesses, the Finance Board will review contact lists provided by Federal agencies, trade groups, and other organizations, advertise contracting opportunities through targeted media, and participate in targeted business promotion events. After identifying businesses, the Finance Board will provide information about, and technical assistance to participate in, the contracting process. The Finance Board also will ensure that personnel involved in the contracting process understand and promote the outreach program.

4. Program Monitoring and Oversight

To maintain the effectiveness of the outreach program, § 906.13 requires the appointment of an “Outreach Advocate” who will be responsible for program advocacy, oversight, and monitoring. In addition, the Outreach Advocate will be responsible for providing the Finance Board with technical assistance and guidance on how best to facilitate the participation in the contracting process of minorities, women, and individuals with disabilities, and businesses unconditionally owned by them.

II. Paperwork Reduction Act Control Numbers

Under the PRA and the OMB implementing regulation, an agency may not sponsor or conduct, and a person is not required to respond to, an information collection unless the regulation collecting the information displays a currently valid OMB control number. See 44 U.S.C. 3507; 5 CFR 1320.5 and 1320.8. Currently, the expiration date of the OMB control numbers for Finance Board collections of information are scattered throughout the agency's regulations. For ease of reference, the Finance Board is changing how it provides information about OMB control numbers. The Finance Board now will display the OMB control numbers and expiration dates for all agency collections of information in chart form in a single new section—12 CFR 905.27—that will be updated as necessary. This reorganization makes no substantive changes to any of the information collections.

III. Notice, Public Participation, and Effective Date

The notice and publication requirements of the Administrative Procedure Act do not apply because this rule concerns only agency organization, procedure, or practice. See 5 U.S.C. 553(b)(3)(A). Therefore, the Finance Board is publishing these changes in the form of a final rule. As previously noted, however, the Finance Board welcomes suggestions for how to improve the contractor outreach program.

IV. Regulatory Flexibility Act

The Finance Board is adopting these amendments in the form of a final rule and not as a proposed rule. Therefore, the provisions of the Regulatory Flexibility Act do not apply. See 5 U.S.C. 601(2) and 603(a).

V. Paperwork Reduction Act

The final rule does not contain any collections of information under the Paperwork Reduction Act of 1995. See 44 U.S.C. 3501 et seq. Consequently, the Finance Board has not submitted any information to OMB for review.

List of Subjects

12 CFR Part 905

Federal home loan banks, Organization and functions (Government agencies).

12 CFR Part 906

Assessments, Federal home loan banks, Government contracts, Mortgages, Reporting and recordkeeping requirements, Women and minority businesses.

12 CFR Part 925

Credit, Federal home loan banks, Reporting and recordkeeping requirements.

12 CFR Part 926

Credit, Federal home loan banks, Reporting and recordkeeping requirements.

12 CFR Part 931

Capital, Credit, Federal home loan banks, Investments, Reporting and recordkeeping requirements.

12 CFR Part 933

Capital, Credit, Federal home loan banks, Investments, Reporting and recordkeeping requirements.

12 CFR Part 944

Credit, Federal home loan banks, Intergovernmental relations, Trade practices.

12 CFR Part 950

Credit, Federal home loan banks, Housing, Reporting and recordkeeping requirements.

12 CFR Part 951

Community development, Credit, Federal home loan banks, Housing, Reporting and recordkeeping requirements.

For the reasons stated in the preamble, the Finance Board amends 12 CFR, chapter IX, as follows:

PART 905—DESCRIPTION OF ORGANIZATION AND FUNCTIONS

1. Revise the authority citation for part 905 to read as follows:

Authority: 5 U.S.C. 552; 12 U.S.C. 1422b(a) and 1423; 44 U.S.C. 3507; 5 CFR 1320.5 and 1320.8.

2. Add § 905.27 to read as follows:

§ 905.27 OMB control numbers assigned under the Paperwork Reduction Act.

(a) Purpose. This section collects and displays the control numbers assigned to information collection requirements contained in Finance Board regulations by the Office of Management and Budget (OMB) under the Paperwork Reduction Act of 1995 (44 U.S.C. chapter 35) and OMB regulations (5 CFR 1320.5 and 1320.8). The Finance Board may not sponsor or conduct, and a person is not required to respond to, an information collection unless the agency displays a currently valid OMB control number.

(b) Display.

12 CFR part or section where identified and described | OMB control No. | Expiration date
906.5 | 3069-0001 | July 2007.
915.3 | 3069-0002 | Nov. 2007.
915.4 | 3069-0002 | Nov. 2007.
915.5 | 3069-0002 | Nov. 2007.
915.6 | 3069-0002 | Nov. 2007.
915.7 | 3069-0002 | Nov. 2007.
915.8 | 3069-0002 | Nov. 2007.
915.10 | 3069-0002 | Nov. 2007.
915.12 | 3069-0002 | Nov. 2007.
925.2 | 3069-0004 | May 2007.
925.3 | 3069-0004 | May 2007.
925.5 | 3069-0004 | May 2007.
925.6 | 3069-0004 | May 2007.
925.7 | 3069-0004 | May 2007.
925.8 | 3069-0004 | May 2007.
925.9 | 3069-0004 | May 2007.
925.11 | 3069-0004 | May 2007.
925.12 | 3069-0004 | May 2007.
925.13 | 3069-0004 | May 2007.
925.15 | 3069-0004 | May 2007.
925.16 | 3069-0004 | May 2007.
925.17 | 3069-0004 | May 2007.
925.18 | 3069-0004 | May 2007.
925.22 | 3069-0004 | May 2007.
925.24 | 3069-0004 | May 2007.
925.26 | 3069-0004 | May 2007.
925.31 | 3069-0004 | May 2007.
926.1 | 3069-0005 | Nov. 2005.
926.2 | 3069-0005 | Nov. 2005.
926.3 | 3069-0005 | Nov. 2005.
926.4 | 3069-0005 | Nov. 2005.
926.5 | 3069-0005 | Nov. 2005.
926.6 | 3069-0005 | Nov. 2005.
931.3 | 3069-0059 | Feb. 2007.
931.7 | 3069-0004 | May 2007.
933.2 | 3069-0059 | Feb. 2007.
944.2 | 3069-0003 | Feb. 2006.
944.3 | 3069-0003 | Feb. 2006.
944.4 | 3069-0003 | Feb. 2006.
944.5 | 3069-0003 | Feb. 2006.
950.17 | 3069-0005 | Nov. 2005.
951.1 | 3069-0006 | July 2007.
951.3 | 3069-0006 | July 2007.
951.4 | 3069-0006 | July 2007.
951.6 | 3069-0006 | July 2007.
951.7 | 3069-0006 | July 2007.
951.8 | 3069-0006 | July 2007.
951.10 | 3069-0006 | July 2007.
951.11 | 3069-0006 | July 2007.
951.13 | 3069-0006 | July 2007.
951.15 | 3069-0006 | July 2007.
955.4 | 3069-0058 | Mar. 2007.

3. Revise part 906 to read as follows:

PART 906—OPERATIONS

Subpart A—Assessments on the Banks
Sec.
906.1 Assessment authority.
906.2 Assessment procedure.
Subpart B—Monthly Interest Rate Survey (MIRS)
906.5 Monthly interest rate survey.
Subpart C—Contractor Outreach Program for Businesses Owned by Minorities, Women, or Individuals With Disabilities
906.10 Why does the Finance Board have this outreach program?
906.11 Who may participate in the outreach program?
906.12 What outreach efforts are included in this program?
906.13 How does the Finance Board oversee and monitor the outreach program?

Authority: 12 U.S.C. 1422b, 1438(b), and 1833e.

Subpart A—Assessments on the Banks

§ 906.1 Assessment authority.

The Finance Board may impose a semiannual assessment on the Banks in an aggregate amount the Finance Board determines is sufficient to provide for the payment of its estimated expenses for the period for which it makes such assessment.

§ 906.2 Assessment procedure.

(a) At or near the end of each fiscal year, the Finance Board shall approve an annual budget of Finance Board expenses for the next fiscal year. The Finance Board shall promptly provide a copy of the approved budget to each Bank president.

(b) The Finance Board shall assess the Banks semiannually in an aggregate amount it determines is sufficient to pay the expenses approved under paragraph (a) of this section. The Finance Board shall offset the amount of the semiannual assessments it imposes on the Banks by any amount it determines is remaining from previous semiannual assessments. The Finance Board shall promptly notify each Bank president in writing of the amount on any assessment.

(c) Each Bank shall pay a pro rata share of the semiannual assessments imposed under paragraph (b) of this section. The Finance Board shall calculate each Bank's pro rata share based on the ratio between the total paid-in value of the Bank's capital stock and the aggregate total paid-in value of the capital stock of every Bank. The Finance Board shall promptly notify each Bank in writing of the amount of its pro rata share of any semiannual assessment.

(d) Unless otherwise instructed in writing by the Finance Board, each Bank shall pay to the Finance Board its pro rata share of an assessment in equal monthly installments during the semiannual period covered by the assessment.

Subpart B—Monthly Interest Rate Survey (MIRS)

§ 906.5 Monthly interest rate survey.

The Finance Board conducts its Monthly Survey of Rates and Terms on Conventional One-Family Non-farm Mortgage Loans in the following manner:

(a) Initial survey. Each month, the Finance Board samples savings institutions, commercial banks, and mortgage loan companies, and asks them to report the terms and conditions on all conventional mortgages (i.e., those not federally insured or guaranteed) used to purchase single-family homes that each such lender closes during the last five working days of the month. In most cases, the information is reported electronically in a format similar to Finance Board Form FHFB 10-91. The initial weights are based on lender type and lender size. The data also is weighted so that the pattern of weighted responses matches the actual pattern of mortgage originations by lender type and by region. The Finance Board tabulates the data and publishes standard data tables late in the following month.

(b) Adjustable-rate mortgage index. The weighted data, tabulated and published pursuant to paragraph (a) of this section, is used to compile the Finance Board's adjustable-rate mortgage index, entitled the “National Average Contract Mortgage Rate for the Purchase of Previously Occupied Homes by Combined Lenders.” This index is the successor to the index maintained by the former Federal Home Loan Bank Board and is used for determining the movement of the interest rate on renegotiable-rate mortgages and on some other adjustable-rate mortgages.

Subpart C—Contractor Outreach Program for Businesses Owned by Minorities, Women, or Individuals With Disabilities

§ 906.10 Why does the Finance Board have this outreach program?

The Finance Board awards contracts consistent with the principles of full and open competition and best value acquisition. The purpose of this outreach program is to ensure that minorities, women, and individuals with disabilities, and businesses unconditionally owned by them, have the maximum practicable opportunity to participate fully in all contracts awarded by the Finance Board.

§ 906.11 Who may participate in the outreach program?

Minorities, women, and individuals with disabilities, and businesses unconditionally owned by them, may participate in the outreach program. As used in this subpart:

(a) Disability with respect to an individual has the same meaning as defined by the Equal Employment Opportunity Commission at 29 CFR 1630.2(g) and 1630.3.

(b) Minority means Black or African American, American Indian or Alaska Native, Hispanic or Latino American, Asian American, and Native Hawaiian or Other Pacific Islander.

(c) Unconditional ownership means ownership of at least 51 percent of a business by one or more members of a minority group, women, or individuals with disabilities. In the case of a corporation, it means ownership of at least 51 percent of each class of voting stock. In the case of a partnership, it means ownership of at least 51 percent of the partnership interest.

§ 906.12 What outreach efforts are included in this program?

The Finance Board's outreach program includes the following:

(a) Identifying businesses unconditionally owned by minorities, women, and individuals with disabilities by obtaining lists and directories that may be maintained by government agencies, trade groups, and other organizations;

(b) Contacting businesses unconditionally owned by minorities, women, and individuals with disabilities to provide information about, and technical assistance to participate in, the Finance Board contracting process;

(c) Advertising contracting opportunities with the Finance Board through media targeted to reach businesses unconditionally owned by minorities, women, and individuals with disabilities;

(d) Participating, to the extent practicable, in events such as conventions, seminars, and professional meetings that are intended primarily to promote business opportunities for minorities, women, and individuals with disabilities, and businesses unconditionally owned by them; and

(e) Ensuring that Finance Board contracting staff understand and promote the outreach program.

§ 906.13 How does the Finance Board oversee and monitor the outreach program?

The Chairperson will appoint an Outreach Advocate who will be responsible for program advocacy, oversight, and monitoring. In addition, the Outreach Advocate will be responsible for providing the Finance Board with technical assistance and guidance to facilitate identifying and soliciting participation in the contracting process of minorities, women, and individuals with disabilities, and businesses unconditionally owned by them.

PART 925—MEMBERS OF THE BANKS

4. The authority citation for part 925 continues to read as follows:

Authority: 12 U.S.C. 1422, 1422a, 1422b, 1423, 1424, 1426, 1430, and 1442.

§§ 925.2, 925.3, 925.5, 925.6, 925.7, 925.8, 925.9, 925.11, 925.12, 925.13, 925.15, 925.16, 925.17, 925.18, 925.22, and 925.31 [Amended]

5. Amend §§ 925.2, 925.3, 925.5, 925.6, 925.7, 925.8, 925.9, 925.11, 925.12, 925.13, 925.15, 925.16, 925.17, 925.18, 925.22, and 925.31 by removing the parenthetical “(The information collection requirements contained in this section have been approved by the Office of Management and Budget under control number 3069-0004)” at the end of each section.

§§ 925.24 and 925.26 [Amended]

6. Amend §§ 925.24 and 925.26 by removing the parenthetical “(The Office of Management and Budget has approved the information collection requirements contained in this section and assigned control number 3069-0004 with an expiration date of April 30, 2001)” at the end of each section.

PART 926—FEDERAL HOME LOAN BANK HOUSING ASSOCIATES

7. The authority citation for part 926 continues to read as follows:

Authority: 12 U.S.C. 1422b(a) and 1430b.

§§ 926.4, 926.5, and 926.6 [Amended]

8. Amend §§ 926.4, 926.5, and 926.6 by removing the parenthetical “(The Office of Management and Budget has approved the information collection requirements contained in this section and assigned control number 3069-0005 with an expiration date of November 30, 2002)” at the end of each section.

PART 931—FEDERAL HOME LOAN BANK CAPITAL STOCK

9. The authority citation for part 931 continues to read as follows:

Authority: 12 U.S.C. 1422a(a)(3), 1422b(a), 1426, 1440, 1443, and 1446.

§ 931.3 [Amended]

10. Amend § 931.3 by removing the parenthetical “(The Office of Management and Budget has approved the information collection requirements contained in this section and assigned control number 3069-0059 with an expiration date of November 30, 2003)” at the end of the section.

§ 931.7 [Amended]

11. Amend § 931.7 by removing the parenthetical “(The Office of Management and Budget has approved the information collection requirements contained in this section and assigned control number 3069-0004 with an expiration date of April 30, 2001)” at the end of the section.

PART 933—BANK CAPITAL STRUCTURE PLANS

12. The authority citation for part 933 continues to read as follows:

Authority: 12 U.S.C. 1422a(a)(3), 1422b(a), 1426, 1440, 1443, and 1446.

§ 933.2 [Amended]

13. Amend § 933.2 by removing the parenthetical “(The Office of Management and Budget has approved the information collection requirements contained in this section and assigned control number 3069-0059 with an expiration date of November 30, 2003)” at the end of the section.

PART 944—COMMUNITY SUPPORT REQUIREMENTS

14. The authority citation for part 944 continues to read as follows:

Authority: 12 U.S.C. 1422a(a)(3)(B), 1422b(a)(1), and 1430(g).

§§ 944.2, 944.3, 944.4, and 944.5 [Amended]

15. Amend §§ 944.2, 944.3, 944.4, and 944.5 by removing the parenthetical “(The Office of Management and Budget has approved the information collection requirements contained in this section and assigned control number 3069-0003 with an expiration date of January 31, 2003)” at the end of each section.

PART 950—ADVANCES

16. The authority citation for part 950 continues to read as follows:

Authority: 1422a(a)(3), 1422b(a)(1), 1426, 1429, 1430, 1430b, and 1431.

§ 950.17 [Amended]

17. Amend § 950.17 by removing the parenthetical “(The Office of Management and Budget has approved the information collection requirements contained in this section and assigned control number 3069-0005 with an expiration date of November 30, 2002)” at the end of the section.

PART 951—AFFORDABLE HOUSING PROGRAM

18. The authority citation for part 951 continues to read as follows:

Authority: 12 U.S.C. 1430(j).

§§ 951.1, 951.3, 951.4, 951.6, 951.7, 951.8, 951.10, 951.11, 951.13, and 951.15 [Amended]

19. Amend §§ 951.1, 951.3, 951.4, 951.6, 951.7, 951.8, 951.10, 951.11, 951.13, and 951.15 by removing the parenthetical “(The Office of Management and Budget has approved the information collection requirements contained in this section and assigned control number 3069-0006 with an expiration date of June 30, 2004)” at the end of each section.

Dated: February 9, 2005.
By the Board of Directors of the Federal Housing Finance Board.
Ronald A. Rosenfeld,
Chairman.

[FR Doc. 05-3718 Filed 2-25-05; 8:45 am]

BILLING CODE 6725-01-P